DEPARTMENT OF HEALTH AND HUMAN SERVICES

Centers for Disease Control and Prevention

[60Day-02-50]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Surveys of Past HIV Prevention Technology Transfer Efforts—New—National Center for HIV, STD and TB Prevention (NCHSTP), Centers for Disease Control and Prevention (CDC).

CDC proposes to study the effectiveness of providing a packaged intervention, training, and technical assistance to HIV prevention agencies to ensure the agencies' maintenance of the intervention and adherence to the essential components of the intervention's defined protocol. Results from the survey will be used by CDC to develop a national program for disseminating packaged interventions that will increase the likelihood of continued use by agencies. This project supports CDC's Replicating Effective Programs (REP) project. The REP converts the intervention protocols from effective HIV prevention studies into packages (kits) containing manuals, videos, posters, penile models, and other materials needed by HIV prevention providers to implement the particular intervention on their own.

The surveys will be disseminated to staff members of 16 prevention agencies that implemented one of five unique, packaged interventions between 1997 and 2000 as part of CDC's ongoing REP project. One survey will be administered over the telephone to Agency Administrators from the 16 prevention agencies that implemented an intervention packaged by the REP project. Additional surveys will be administered in-person to one Intervention Supervisor and two Intervention Facilitators at 15 prevention agencies that are continuing to implement the REP-packaged intervention.

The objectives of the surveys include, but are not limited to, (1) Identification of factors associated with maintenance and discontinuation of REP-packaged interventions; (2) determination of why and how agencies adapted the packaged interventions; (3) examination of the impact of elapsed time on maintenance of the intervention and adherence to defined intervention protocols; (4) identification of any differences between the type of agency (i.e., community-based organization, health department) on maintenance and adherence; (5) identification of any difference between the type of original researcher (i.e., academic, non-profit) on maintenance and adherence; and (6) identification of perceived and actual benefits, as well as “instrumental” and “conceptual” utility, of REP-packaged interventions that can be used in marketing the intervention packages to other HIV prevention providers. Researchers administering the in-person surveys also will assess adherence to defined intervention protocols by observing facilitators delivering the intervention and by recording their observations on a checklist designed for the particular intervention being observed.

Survey questionnaire data will be collected once from each respondent (e.g., Agency Administrator, Intervention Supervisor, Intervention Facilitator). There are no costs to respondents for participation in the survey.

Respondents | Number of respondents | Number of responses/respondent | Avg. burden/response (in hours) | Total burden hours
Agency Administrators | 16 | 1 | 108/60 | 29
Intervention Supervisors | 15 | 1 | 90/60 | 23
Intervention Facilitators | 30 | 1 | 105/60 | 53
Total |  |  |  | 105

Dated: May 2, 2002.
Nancy E. Cheal,
Acting Associate Director for Policy, Planning and Evaluation, Centers for Disease Control and Prevention.

[FR Doc. 02-11664 Filed 5-9-02; 8:45 am]

BILLING CODE 4163-18-P